DEPARTMENT OF AGRICULTURE

Submission for OMB Review; Comment Request

June 7, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 12, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Importation of Poultry Meat and Other Poultry Products from Sinaloa and Sonora, Mexico; Poultry and Pork Transiting the United States From Mexico.

OMB Control Number: 0579-0144.

Summary of Collection: The Animal Health Protection Act of 2002 (Title X, Subtitle E, Sec. 10401-18 of Pub. L. 107-171) is the primary Federal law governing the protection of animal health. Disease prevention is the most effective method for maintaining a healthy animal population and for enhancing the U.S. Department of Agriculture's Animal and Plant Health Inspection Service (APHIS), Veterinary Services' ability to allow United States animal producers to compete in the world market of animal and animal product trade. APHIS currently has regulations in place that restrict the importation of poultry meat and other poultry products from Mexico due to the presence of Newcastle Disease (ND) in that country. However, APHIS allows the importation of poultry meat and poultry products from the Mexican States of Sinaloa and Sonora because APHIS has determined that poultry meat and products from these two Mexican States pose a negligible risk of introducing ND into the United States. To ensure that these items are safe for importation, APHIS requires that certain data appear on the foreign meat inspection certificate that accompanies the poultry meat and other poultry products from Sinaloa and Sonora to the United States. APHIS also requires that serial numbered seals be applied to containers carrying the poultry meat and other poultry products. In addition there is an application and approval process required for the transit of pork and pork products and poultry carcasses, parts, or products (except eggs and egg products). APHIS also requires a pre-arrival notification to alert Customs & Boarder Protection Inspectors, along with an emergency action notice.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the United States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing ND into the United States.

Description of Respondents: Business or other for-profit; Federal Government.

Number of Respondents: 400.

Frequency of Responses: Reporting: On occasion.

Total Burden Hours: 558.

Animal and Plant Health Inspection Service

Title: Control of Chronic Wasting Disease.

OMB Control Number: 0579-0189.

Summary of Collection: The Animal Health Protection Act (AHPA) of 2002 is the primary Federal law governing the protection of animal health. The law gives the Secretary of Agriculture broad authority to detect, control, and eradicate pests or diseases of livestock or poultry, and to pay claims arising from destruction of animals. Disease prevention is the most effective method for maintaining a healthy animal population and enhancing the Animal and Plant Health Inspection Service (APHIS) ability to complete in exporting animals and animal products. Chronic wasting disease (CWD) is a transmissible spongiform encephalopathy (TSE) of elk, deer and moose typified by chronic weight loss leading to death. The presence of CWD disease in cervids causes significant economic and market losses to U.S. producers. In an effort to accelerate the control and limit the spread of this disease in the United States, APHIS created a cooperative, voluntary Federal-State-private sector CWD Herd Certification Program designed to identify farmed or captive herds infected with CWD and provided for the management of these herds in a way that reduces the risk of spreading CWD.

Need and Use of the Information: APHIS will collect information from owners of elk, deer, and moose herds who choose to participate in the CWD Herd Certification program. They would need to follow program requirements for animal identification, testing, herd management, and movement of animals into and from herds. APHIS also established requirements for the interstate movement of cervids to prevent movement of elk, deer, and moose that pose a risk of spreading CWD. Carrying out this program will entail the use of several information collection activities: Memoranda of understandings; participation requests/applications; sample collections and lab submissions; inspections, inventories, and herd records; cervid identification; reports of cervid disappearances, escapes, and deaths; herd plans; annual reports; consistent State reviews; epidemiological investigations; appraisal, destruction, and payment of indemnity; letter to appeal suspension; Interstate Certificates of Veterinary Inspection (ICVI); and wild cervid ICVI, and surveillance data. Failure to collect this information would cripple APHIS' ability to effectively sustain its CWD control program.

Description of Respondents: Business or other for-profit; State, Local or Tribal Government.

Number of Respondents: 4,532.

Frequency of Responses: Reporting and Recordkeeping: On occasion.

Total Burden Hours: 347,163.

Animal and Plant Health Inspection Service

Title: Infectious Salmon Anemia (ISA)—Payment of Indemnity.

OMB Control Number: 0579-0192.

Summary of Collection: The Animal Health Protection Act (AHPA) of 2002 is the primary Federal law governing the protection of animal health. The law gives the Secretary of Agriculture broad authority to detect, control, or eradicate pest or diseases of livestock or poultry. Infectious Salmon Anemia (ISA) is a clinical disease resulting from infection with the ISA virus; signs include hemorrhaging, anemia, and lethargy. ISA poses a substantial threat to the economic viability and sustainability of salmon aquaculture in the United States and abroad. The Animal and Plant Health Inspection Service (APHIS) will collect information using VS Form 1-22 ISA Program Enrollment Form, VS Form 1-23 All Species Appraisal and Indemnity Claim Form, VS Form 1-24 Proceeds from Animals Sold for Slaughter Form, and VS Form 1-26 Appraisal and Indemnity Request for Affected Premises Using Contract Growers Form.

Need and Use of the Information: APHIS uses the following information activities to reimburse aquaculture industry businesses; conduct biosecurity, protocols and audits; develop site-specific ISA action plans; compile fish inventories and mortality reports (and keep records of the inventories and reports); and conduct disease surveillance. Each program participant must sign an ISA Program Enrollment Form in which they agree to participate fully in USDA's and the State of Maine's ISA Program. APHIS will collect the owner's name and address, the number of fish for which the owner is seeking payment, and the appraised value of each fish.

The owner must also certify as to whether the fish are subject to a mortgage. Without the information it would be impossible for APHIS to launch its program to contain and prevent ISA outbreaks in the United States.

Description of Respondents: Business or other for-profit.

Number of Respondents: 13.

Frequency of Responses: Recordkeeping; Reporting: On occasion.

Total Burden Hours: 547.

Ruth Brown,
Departmental Information Collection Clearance Officer.

[FR Doc. 2018-12585 Filed 6-11-18; 8:45 am]

BILLING CODE 3410-34-P